DEPARTMENT OF COMMERCE

Foreign-Trade Zones Board

[B-81-2015]

Foreign-Trade Zone 257—Imperial County, California; Application for Reorganization Under Alternative Site Framework

An application has been submitted to the Foreign-Trade Zones (FTZ) Board by the County of Imperial, California, grantee of FTZ 257, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on December 3, 2015.

FTZ 257 was approved by the FTZ Board on October 9, 2003 (Board Order 1286, 68 FR 61393, October 28, 2003).

The current zone includes the following sites: Site 1: (597 acres)—Gateway of the Americas, State Route 7 and State Highway 98, Calexico; Site 2: (32 acres)—Airport Industrial Park, Jones Drive and Best Road with adjacent parcel on Duarte Street, Brawley; Site 3: (240.36 acres)—Calexico International Airport, 254-256 E. Anza Road and Second Street and Airport Road, Calexico; Site 4: (104 acres)—Calipatria Airport Industrial Park, Main Street, International Road and Lyerly Road, Calipatria; Site 5: (531 acres)—El Centro Community Redevelopment Agency project area, Danenberg Road, Dogwood Road and I-8, El Centro; Site 6: (3.46 acres)—Coppel Corporation, 503 Scaroni Road, Calexico; Site 7: (43 acres)—Imperial County Airport, State Highway 86 and Aten Road; Site 8: (115 acres)—Drewry Warehousing complex, 340 West Ralph Road, Imperial; Site 9: (45 acres)—Lucky Ranch Industrial Park, Best Road and Shank Road, Brawley; Site 10: (78.11 acres)—Desert Real Estate parcels, Cole Road and Sunset Boulevard, Calexico; Site 11: (35.47 acres)—Portico Industrial Park, Cole Road and Enterprise Boulevard, Calexico; Site 12 (59.49 acres)—Kloke Tract, Cole Road and Camacho Road, Calexico; Site 13 (57.45 acres)—Las Palmas/Estrada Business Park, Estrada Boulevard and Arguelles Street, Calexico; Site 14 (7.54 acres)—Calexico Industrial Park, 190 East Cole Road and 2360, 2420, 2430, 4360 M.L. King Avenue, Calexico; Site 15 (1.3 acres)—JE Exports, 701 Cesar Chavez Boulevard, Calexico; and, Site 16 (0.96 acres)—JE Exports, 224 Grant Street, Calexico.

The grantee's proposed service area under the ASF would be Imperial County, California, as described in the application. If approved, the grantee would be able to serve sites throughout the service area based on companies' needs for FTZ designation. The application indicates that the proposed service area is within and adjacent to the Calexico U.S. Customs and Border Protection port of entry.

The applicant is requesting authority to reorganize its existing zone to include existing Sites 1 through 5 and 7 through 14 as “magnet” sites and existing Sites 6, 15 and 16 as “usage-driven” sites. The ASF allows for the possible exemption of one magnet site from the “sunset” time limits that generally apply to sites under the ASF, and the applicant proposes that Site 1 be so exempted. No new subzones/usage-driven sites are being requested at this time.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is February 8, 2016. Rebuttal comments in response to material submitted during the foregoing period may be submitted during the subsequent 15-day period to February 22, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Christopher Kemp at Christopher.Kemp@trade.gov or (202) 482-0862.

Dated: December 3, 2015.
Andrew McGilvray,
Executive Secretary.

[FR Doc. 2015-31079 Filed 12-8-15; 8:45 am]

BILLING CODE 3510-DS-P